DEPARTMENT OF HEALTH AND HUMAN SERVICES

Office of Inspector General

Statement of Organization, Functions, and Delegations of Authority

This notice amends Part A (Office of the Secretary) of the Statement of Organization, Functions, and Delegations of Authority for the Department of Health and Human Services (HHS) to reflect a realignment of functions within the Office of Inspector General's (OIG) Immediate Office of the Inspector General (IOIG), Office of Management and Policy (OMP), Office of Evaluation and Inspections (OEI), Office of Counsel to the Inspector General (OCIG), Office of Audit Services (OAS), and Office of Investigations (OI). The statement of organization, functions, and delegations of authority conforms to and carries out the statutory requirements for operating OIG. Chapter AF was last published in its entirety on October 28, 1997.

The realignment of functions within IOIG, OMP, OEI, OCIG, OAS, and OI has been done to allow greater staff flexibility and to better reflect the current work environment and priorities within OIG. In addition, this notice sets forth a number of technical changes in Chapter AF that serve to update references to office titles and clarify OIG's organizational structure and responsibilities with respect to information technology.

As amended, Chapter AF now reads as follows:

Section AF.00, Office of Inspector General—Mission

The Office of Inspector General (OIG) was established by law as an independent and objective oversight unit of the Department to carry out the mission of promoting economy, efficiency and effectiveness through the elimination of waste, abuse and fraud. In furtherance of this mission, the organization:

A. Conducts and supervises audits, investigations, inspections and evaluations relating to HHS programs and operations.

B. Identifies systemic weaknesses giving rise to opportunities for fraud and abuse in HHS programs and operations and makes recommendations to prevent their recurrence.

C. Leads and coordinates activities to prevent and detect fraud and abuse in HHS programs and operations.

D. Detects wrongdoers and abusers of HHS programs and beneficiaries so appropriate remedies may be brought to bear.

E. Keeps the Secretary and the Congress fully and currently informed about problems and deficiencies in the administration of HHS programs and operations and about the need for and progress of corrective action, including imposing sanctions against providers of health care under Medicare and Medicaid who commit certain prohibited acts.

In support of its mission, OIG carries out and maintains an internal quality assurance system and a peer review system with other Offices of Inspectors General, including periodic quality assessment studies and quality control reviews, to provide reasonable assurance that applicable laws, regulations, policies, procedures, standards, and other requirements are followed, are effective, and are functioning as intended in OIG operations.

Section AF.10, Office of Inspector General—Organization

There is at the head of OIG a statutory Inspector General, appointed by the President and confirmed by the Senate. This office consists of six organizational units:

A. Immediate Office of the Inspector General (AFA).

B. Office of Management and Policy (AFC).

C. Office of Evaluation and Inspections (AFE).

D. Office of Counsel to the Inspector General (AFG).

E. Office of Audit Services (AFH).

F. Office of Investigations (AFJ).

Section AF.20, Office of Inspector General—Functions

The component sections that follow describe the specific functions of the organization.

Section AFA.00, Immediate Office of the Inspector General—Mission

The Immediate Office of the Inspector General (IOIG) is directly responsible for meeting the statutory mission of OIG as a whole and for promoting effective OIG internal quality assurance systems, including quality assessment studies and quality control reviews of OIG processes and products. The office also plans, conducts and participates in a variety of interagency cooperative projects and undertakings relating to fraud and abuse with the Department of Justice (DOJ), the Centers for Medicare & Medicaid Services (CMS) and other governmental agencies, and is responsible for the reporting and legislative and regulatory review functions required by the Inspector General Act.

Section AFA.10, Immediate Office of the Inspector General—Organization

IOIG is comprised of the Inspector General, the Principal Deputy Inspector General and an immediate office staff, including the Office of External Affairs.

Section AFA.20, Immediate Office of the Inspector General—Functions

As the senior official of the organization, the Inspector General supervises the Chief Counsel to the Inspector General and the Deputy Inspectors General who head the major OIG components. The Inspector General is appointed by the President, with the advice and consent of the Senate, and reports to and is under the general supervision of the Secretary or, to the extent such authority is delegated, the Deputy Secretary, but does not report to and is not subject to supervision by any other officer in the Department. In keeping with the independence conferred by the Inspectors General Act, the Inspector General assumes and exercises, through line management, all functional authorities related to the administration and management of OIG and all mission-related authorities stated or implied in the law or delegated directly from the Secretary.

The Inspector General provides executive leadership to the organization and exercises general supervision over the personnel and functions of its major components. The Inspector General determines the budget needs of OIG, sets OIG policies and priorities, oversees OIG operations and provides reports to the Secretary and the Congress. By statute, the Inspector General exercises general personnel authority, e.g., selection, promotion, and assignment of employees, including members of the senior executive service. The Inspector General delegates related authorities as appropriate.

The Principal Deputy Inspector General assists the Inspector General in the management of OIG, and during the absence of the Inspector General, acts as the Inspector General.

The Office of External Affairs is comprised of three components—Public Affairs, Legislative and Regulatory Affairs, and the Executive Secretariat. The office conducts and coordinates reviews of existing and proposed legislation and regulations related to HHS programs and operations to identify their impact on economy and efficiency and their potential for fraud and abuse. It serves as contact for the press and electronic media and serves as OIG congressional liaison. The office prepares or coordinates congressional testimony and confers with officials in the Office of the Secretary staff divisions on congressional relations, legislation and public affairs. The office compiles the Office of Inspector General Semiannual Report to the Congress and certain legislatively mandated reports to the Congress. It develops and publishes OIG newsletters and other issuances to announce and promote OIG activities and accomplishments. The office also has primary responsibility for developing and promulgating all OIG regulations for codification into the Code of Federal Regulations, and for preparing all OIG related notices and other documents for Federal Register publication.

Section AFC.00, Office of Management and Policy—Mission

The Office of Management and Policy (OMP) provides mission support services to the Inspector General and other components. The office formulates and executes the budget, develops functional policies for the general management of OIG, and manages information technology resources.

In support of its mission, the office carries out and maintains an internal quality assurance system. The system includes quality control reviews of OMP processes and products to ensure that policies and procedures are followed effectively and function as intended.

Section AFC.10, Office of Management and Policy—Organization

The office is directed by the Deputy Inspector General for Management and Policy and the Assistant Inspector General for Information Technology. The office is comprised of the following components:

A. Administrative Operations.

B. Information Technology.

C. Planning and Performance.

Section AFC.20, Office of Management and Policy—Functions

A. Administrative Operations

The office formulates and oversees the execution of the budget and confers with the Office of the Secretary, the Office of Management and Budget, and the Congress on budget issues. It issues quarterly grants to States for Medicaid Fraud Control Units. It conducts management studies and analyzes and establishes and coordinates general management policies for OIG and publishes those policies in the OIG Administrative Manual. It serves as OIG liaison to the Office of the Secretary for personnel issues and other administrative policies and practices, and on equal employment opportunity and other civil rights matters. It coordinates internal control reviews for OIG.

B. Information Technology

The office is responsible for information resources management (IRM), as defined by the Paperwork Reduction Act, OMB Circular A-130, the Federal Information Resources Management regulations, the Computer Security Act of 1987, the Clinger-Cohen Act, the Federal Information Security Management Act of 2002, HHS IRM Circulars, and by related guidance. The office also provides nationwide information technology support to OIG through management of its local area networks, provision of computer end-user and direct mission information technology (IT) support, maintenance of OIG information systems, and safeguarding sensitive information and IT resources. The Assistant Inspector General for Information Technology, who reports to the Inspector General through the Deputy Inspector General for Management and Policy, serves as Chief Information Officer. In addition, the office operates a toll-free hotline for OIG to permit individuals to call in suspected fraud, waste, or abuse; refers the calls for appropriate action by HHS agencies or other OIG components; and analyzes the body of calls to identify trends and patterns of fraud and abuse needing attention.

C. Planning and Performance

This office coordinates the development of the work planning process, including strategic long-range planning, tactical planning and the annual work plan coordination and production. It also is responsible for overseeing emergency operations and national security classification policy, and for coordinating updates of the Red Book, which addresses unimplemented OIG recommendations to reduce fraud, waste and abuse.

Section AFE.00, Office of Evaluation and Inspections—Mission

The Office of Evaluation and Inspections (OEI) is responsible for conducting a comprehensive set of in-depth evaluations of HHS programs, operations and processes to identify vulnerabilities, to prevent and detect fraud, waste and abuse, and to promote efficiency and effectiveness in HHS programs and operations.

Section AFE.10, Office of Evaluation and Inspections—Organization

This office is comprised of the following components:

A. Immediate Office.

B. Policy and Oversight Division.

C. Program Evaluations Division.

D. Regional Operations.

E. Technical Support Staff.

Section AFE.20, Office of Evaluation and Inspections—Functions

A. Immediate Office of the Deputy Inspector General for OEI

This office is directed by the Deputy Inspector General for OEI who, with the assistance of an Assistant Inspector General, is responsible for carrying out OIG's evaluations mission and supervises the Directors for Policy and Oversight, Program Evaluations, Regional Operations, and Technical Support. This office is also responsible for the oversight of the State Medicaid Fraud Control Units and for certifying and recertifying these units and for auditing their Federal funding.

B. Policy and Oversight

This office develops OEI's evaluation and inspection policies, procedures and standards. It manages OEI's human and financial resources; develops and monitors OEI's management information systems; and conducts management reviews within the HHS/OIG and for other OIGs upon request. The office carries out and maintains an internal quality assurance system. The system includes quality assessment studies and quality control reviews of OEI processes and products to ensure that policies and procedures are effective, are followed, and are functioning as intended.

C. Program Evaluations

This office manages OEI's work planning process, and develops and reviews legislative, regulatory and program proposals to reduce vulnerabilities to fraud, waste and mismanagement. It develops evaluation techniques and coordinates projects with other OIG and Departmental components. It provides programmatic expertise and information on new programs, procedures, regulations and statutes to OEI regional offices. It maintains liaison with other components in the Department, follows up on implementation of corrective action recommendations, evaluates the actions taken to resolve problems and vulnerabilities identified, and provides additional data or corrective action options, where appropriate.

D. Regional Operations

This office is responsible for OEI's mission in the field. The regional offices conduct extensive evaluations of HHS programs and produce the results in inspection reports. They conduct data and trend analyses of major HHS initiatives to determine the effects of current policies and practices on program efficiency and effectiveness. They recommend changes in program policies, regulations and laws to improve efficiency and effectiveness, and to prevent fraud, abuse, waste and mismanagement. They analyze existing policies to evaluate options for future policy, regulatory and legislative improvement.

E. Technical Support

This office provides statistical and database advice and services for inspections conducted by the regional offices. It carries out analyses of large databases to identify potential areas of fraud and abuse and provides technical assistance to the regional offices for these purposes.

Section AFG.00, Office of Counsel to the Inspector General—Mission

The Office of Counsel to the Inspector General (OCIG) is responsible for providing all legal services and advice to the Inspector General, Principal Deputy Inspector General and all the subordinate components of the Office of Inspector General, in connection with OIG operations and administration, OIG fraud and abuse enforcement and compliance activities, and OIG activities designed to promote efficiency and economy in the Department's programs and operations. OCIG is also responsible for proposing and litigating civil money penalty (CMP) and program exclusion cases within the jurisdiction of OIG, for coordinating False Claims Act and criminal, civil and administrative fraud and abuse law enforcement matters, and for resolving voluntary disclosure cases. OCIG develops guidance to assist providers in establishing compliance programs; monitors ongoing compliance of providers subject to integrity agreements; and promotes industry awareness through the issuance of advisory opinions, fraud alerts, and special advisory bulletins.

Section AFG.10, Office of Counsel to the Inspector General—Organization

The office is directed by the Chief Counsel to the Inspector General and the Assistant Inspector General for Legal Affairs. The office is comprised of the following components:

A. Advice.

B. Administrative and Civil Remedies.

C. Industry Guidance.

Section AFG.20, Office of Counsel to the Inspector General—Functions

A. Advice

This office provides legal advice to the various components of OIG on issues that arise in the exercise of OIG's responsibilities under the Inspector General Act of 1978. Such issues include the scope and exercise of the Inspector General's authorities and responsibilities; investigative techniques and procedures (including criminal procedure); the sufficiency and impact of legislative proposals affecting OIG; and the conduct and resolution of investigations, audits and inspections. The office evaluates the legal sufficiency of OIG recommendations and develops formal legal opinions to support these recommendations. When appropriate, the office coordinates formal legal opinions with the HHS Office of the General Counsel. The office provides legal advice on OIG internal administration and operations, including appropriations, delegations of authority, ethics, OIG regulations, personnel matters, the disclosure of information under the Freedom of Information Act and the safeguarding of information under the Privacy Act. The office is responsible for conducting and coordinating litigation activities on personnel and Equal Employment Opportunity matters and Federal tort actions involving OIG employees. The office is responsible for the clearance and enforcement of subpoenas issued by OIG, and defends OIG in litigation matters as necessary.

B. Administrative and Civil Remedies

1. This office is responsible for determining whether to propose or implement administrative sanctions, including CMPs within the jurisdiction of OIG, assessments, and program exclusions. The office, in conjunction with the Office of Investigations (OI), effectuates all mandatory and permissive exclusions from participation in Federal health care programs under the Social Security Act; decides on all requests for reinstatement from, or waiver of, exclusions; and participates in developing standards governing the imposition of these exclusion authorities. The office litigates appeals of program exclusions before the Departmental Appeals Board and assists DOJ in handling any subsequent appeals of such cases to the Federal courts.

2. The office reviews all cases referred by CMS under the patient anti-dumping authority of the Social Security Act and, where appropriate, proposes and litigates CMPs with respect to hospitals, and CMPs and program exclusions with respect to physicians, for violations of the patient anti-dumping statute.

3. The office proposes and litigates CMPs, assessments and program exclusions under the CMP law and other CMP authorities delegated to OIG.

4. In coordination with DOJ, the office handles all False Claims Act cases, including qui tam cases, and is responsible for final sign-off on False Claims Act settlements for the Department, including the resolution of the CMP and program exclusion authorities that have been delegated to OIG. It participates in settlement negotiations and provides litigation support. The office, in conjunction with OI, coordinates resolution of all voluntary disclosure cases, both under the OIG Self-Disclosure Protocol and otherwise, through: Liaison activities with DOJ and the U.S. Attorney's office; the disclosure verification efforts of the Office of Audit Services (OAS) and OI; and final disposition and sign-off of the matter. The office is responsible for developing and maintaining a comprehensive and coordinated database on all settled and pending False Claims Act and CMP cases under its authority.

5. The office also develops and monitors corporate and provider integrity programs adopted as part of settlement agreements, conducts on-site reviews, and develops audit and investigative review standards for monitoring such plans in cooperation with other OIG components. The office resolves breaches of integrity agreements through the development of corrective action plans and through the imposition of sanctions.

C. Industry Guidance

This office is responsible for drafting and issuing advisory opinions to the health care industry and members of the public on whether an activity (or proposed activity) would constitute grounds for the imposition of a sanction under the anti-kickback statute, the CMP law or the program exclusion authorities, and on other issues pertaining to the anti-kickback statute. The office develops and updates procedures for the submission of requests for advisory opinions and for determining the fees that will be imposed. The office solicits and responds to proposals for new regulatory safe harbors to the anti-kickback statute, modifications to existing safe harbors, and new fraud alerts. The office consults with DOJ on all proposed advisory opinions and safe harbors before issuance or publication. The office provides legal advice to the various components of OIG, other offices of the Department, and DOJ concerning matters involving the interpretation of the anti-kickback statute and other legal authorities, and assists those components or offices in analyzing the applicability of the anti-kickback statute to various practices or activities under review.

Section AFH.00 Office of Audit Services—Mission

The Office of Audit Services (OAS) provides policy direction for and conducts and oversees comprehensive audits of HHS programs, operations, grantees and contractors, following generally accepted government auditing standards (GAGAS), the Single Audit Act of 1984, applicable Office of Management and Budget (OMB) circulars and other legal, regulatory and administrative requirements. This includes investigative audit work performed in conjunction with other OIG components. The office maintains an internal quality assurance system, including periodic quality assessment studies and quality control reviews, to provide reasonable assurance that applicable laws, regulations, policies, procedures, standards and other requirements are followed in all audit activities performed for, or on behalf of, the Department. In furtherance of this mission, the organization engages in a number of activities:

A. The office coordinates and confers with officials of the central Federal management agencies (OMB, the General Accounting Office (GAO), the Office of Personnel Management (OPM) and the Department of the Treasury) on audit matters involving HHS programs and operations. It provides technical assistance to Federal, State and local investigative offices on matters involving HHS programs and operations. It participates in interagency efforts implementing OMB Circular 133, which calls for use of the single audit concept for most external audits, as well as reviews the quality of those audits as they pertain to HHS oversight responsibilities. It performs audits of activities administered by other Federal departments, following the system of audit cognizance administered by OMB. It participates in the President's Council on Integrity and Efficiency (PCIE) initiatives and other governmentwide projects; works with other OIG components on special assignments and projects; and responds to congressional oversight interests related to audit matters in the Department.

B. The office provides comprehensive audit services to HHS operating divisions (OPDIVs) and the Office of the Secretary staff divisions (STAFFDIVs) in their development of program policies and management of grants and procurement and in their establishment of indirect cost rates. The office also performs pre-award audits of grant or contract proposals to determine the financial capability of the grantees or contractors and conducts post-award audits.

C. The office reviews legislative, regulatory and policy proposals for audit implications. It recommends improvements in the accountability and integrity features of legislation, regulations and policy. It prepares reports of audits and special studies for the Secretary, heads of HHS OPDIVs, regional directors and others. It gathers data on unresolved audit findings for the statutorily required semiannual reports to the Congress and reconciles resolution data with the Department OPDIVs as required by the Inspector General Act of 1978, as amended by Inspector General Act Amendments of 1988 (Pub. L. 100-504). It conducts follow-up examinations and special analyses of actions taken on previously reported audit findings and recommendations to ensure completeness and propriety. The office provides input to the Office of Inspector General Semiannual Report to the Congress and produces summaries for both (1) the Orange Book—a summary of unimplemented program and management improvements recommended—and (2) the Red Book—a summary of significant monetary recommendations not yet implemented.

D. The office serves as the focal point for all financial management audit activity within the Department and provides the primary liaison conduit between the OIG and Departmental management. It also provides overall leadership and direction in carrying out the responsibilities mandated under the Chief Financial Officers Act relating to financial statement audits.

Section AFH.10, Office of Audit Services—Organization

The office is comprised of the following components:

A. Immediate Office.

B. Financial Management, Regional Operations, and Information Technology Audits

C. Centers for Medicare and Medicaid Services Audits.

D. Grants and Internal Activities Audits.

E. Audit Management and Policy.

Section AFH.20. Office of Audit Services—Functions

A. Immediate Office of the Deputy Inspector General for Audit Services

This office is directed by the Deputy Inspector General for Audit Services who carries out the functions designated in the law (section 3(d)(1) of the Inspectors General Act) for the position, Assistant Inspector General for Auditing. The Deputy Inspector General for Audit Services is responsible to the Inspector General for carrying out OIG's audit mission and supervises the Assistant Inspectors General heading OAS offices described below.

B. Financial Management, Regional Operations, and Information Technology Audits

This office is directed by the Assistant Inspector General for Financial Management and Regional Operations. In addition to directing this office, the Assistant Inspector General supervises the eight Regional Inspectors General for Audit Services. The office's principal functions include the direct-line responsibility for audits of financial statements and financial statement-related audits, including internal audits of functional areas within the Department, and directing field audit operations.

1. The office serves as the focal point for all financial statement and financial statement-related audit activity within the Department and serves as the primary liaison conduit between OIG and Departmental management.

2. The office provides oversight for audits of governments, universities and nonprofit organizations conducted by non Federal auditors (external audit resources) and those under contract with OIG.

3. The office reviews the design, development and maintenance of Department computer-based systems through the conduct of comprehensive audits of general and application controls in accordance with GAO's Federal Information System Controls Audit Manual and develops and applies advanced computer-based audit techniques for use in detecting fraud, waste and abuse in HHS programs.

4. The office maintains an internal quality assurance system that provides reasonable assurance that applicable laws, regulations, policies, procedures, standards and other requirements are followed in all financial management audit activities performed by the office, or on behalf of the Department.

C. Centers for Medicare and Medicaid Services Audits

This office is directed by the Assistant Inspector General for Centers for Medicare and Medicaid Services (CMS) Audits. The office conducts audits of CMS program operations and oversees nationwide the audits of the Medicare and Medicaid programs, their contractors, and providers of services and products. It maintains an internal quality assurance system to provide reasonable assurance that applicable laws, regulations, policies, procedures, standards and other requirements are followed in all CMS audit activities performed by, or on behalf of, the Department.

D. Grants and Internal Activities Audits

This office is directed by the Assistant Inspector General for Grants and Internal Activities Audits. The office conducts and oversees audits of the operations and programs of the Administration for Children and Families, the Administration on Aging, and the Public Health programs, as well as Statewide cost allocation plans. It maintains an internal quality assurance system, including periodic quality control reviews, to provide reasonable assurance that applicable laws, regulations, policies, procedures, standards and other requirements are followed in its audit activities.

E. Audit Management and Policy

This office is directed by the Assistant Inspector General for Audit Management and Policy. The office manages the human and financial resources of OAS, including developing staffing allocation plans and issuing policy for, coordinating and monitoring all budget, staffing, recruiting, and training activities of the office. It maintains a professional development program for office staff, which meets the requirements of Government auditing standards. The office evaluates audit work, including performing quality control reviews of audit reports, and coordinates the development of and monitors audit work plans. It operates and maintains an OAS-wide quality assurance program that includes the conduct of periodic quality control reviews. It develops audit policy, procedures, standards, criteria and instructions to be followed by OAS staff in conducting audits of Departmental programs, grants, contracts or operations. Such policy is developed in accordance with GAGAS and other legal, regulatory and administrative requirements. The office tracks, monitors and reports on audit resolution and follow-up in accordance with OMB Circular A-50, “Audit Follow-up,” and the 1988 Inspector General Act Amendments. The office coordinates with other OIG components in developing the Work Plan and provides input to the Office of Inspector Semiannual Report to the Congress.

Section AFJ.00, Office of Investigations—Mission

The Office of Investigations (OI) is responsible for conducting and coordinating investigative activities related to allegations of fraud, waste, abuse and mismanagement in HHS programs by applicants, grantees, contractors, or by HHS employees in the performance of their official duties. It serves as OIG liaison to DOJ on all matters relating to investigations of HHS programs and personnel, and reports to the Attorney General when OIG has reasonable grounds to believe Federal criminal law has been violated. The office serves as a liaison with CMS, State licensing boards, and other outside organizations and entities with regard to exclusion, compliance and enforcement activities. It works with other investigative agencies and organizations on special projects and assignments. In support of its mission, the office carries out and maintains an internal quality assurance system. The system includes quality assessment studies and quality control reviews of OI processes and products to ensure that policies and procedures are followed effectively, and are functioning as intended.

Section AFJ.10, Office of Investigations—Organization

This office comprises the following components:

A. Immediate Office.

B. Investigative Operations.

C. Investigative Oversight and Support.

Section AFJ.20, Office of Investigations—Functions

A. Immediate Office of the Deputy Inspector General for Investigations

This office is directed by the Deputy Inspector General for Investigations who is responsible for the functions designated in the law for the position, Assistant Inspector General for Investigations. The Deputy Inspector General for Investigations supervises the Assistant Inspector General for Investigative Operations and the Assistant Inspector General for Investigative Oversight and Support who head the offices described below.

The Deputy Inspector General for Investigations is responsible to the Inspector General for carrying out the investigative mission of OIG and for leading and providing general supervision to the investigative component. The Immediate Office coordinates quality assurance studies to ensure that applicable laws, regulations, policies, procedures, standards and other requirements are followed in all investigative activities performed by, or on behalf of, the Department.

B. Investigative Operations

The Assistant Inspector General for Investigative Operations, who supervises a headquarters staff and the Special Agents in Charge, directs this office.

1. The headquarters staff assists the Deputy Inspector General for Investigations in establishing investigative priorities, evaluating the progress of investigations, and reporting to the Inspector General on the effectiveness of investigative efforts. It develops and implements investigative techniques, programs, guidelines, and policies. It provides programmatic expertise and issues information on new programs, regulations and statutes. It directs and coordinates the investigative regional offices.

2. The headquarters staff reviews completed reports of investigations to ensure accuracy and compliance with guidelines. It issues the reports to pertinent agencies, management officials and the Secretary and recommends appropriate debarment actions, administrative sanctions, CMPs and other civil actions, or prosecution under criminal law. It identifies systemic and programmatic vulnerabilities in the Department's operations and makes recommendations for change to the appropriate managers. The office reviews proposed legislation, regulations, policies and procedures to identify vulnerabilities and recommends modification where appropriate. The office coordinates with the other OIG components in developing the Work Plan and provides input to the Office of Inspector General Semiannual Report to the Congress. It reviews investigative files in response to Privacy and Freedom of Information Act requests, and serves as OIG liaison to the Office of the Secretary for Freedom of Information and Privacy Act requests.

3. The staff provides for the personal protection of the Secretary.

4. The regional offices conduct investigations of allegations of fraud, waste, abuse, mismanagement and violations of standards of conduct within the jurisdiction of OIG in their assigned geographic areas. They coordinate investigations and confer with HHS operating divisions, staff divisions, OIG counterparts and other investigative and law enforcement agencies. They prepare investigative and management improvement reports.

5. The office maintains an automated data and management information system used by all OI managers and investigators. It provides technical expertise on computer applications for investigations and coordinates and approves investigative computer matches with other agencies. The office directs and manages criminal investigations into electronic and/or computer-related violations.

6. The office develops all health care mandatory and permissive program exclusions, and ensures enforcement of exclusions imposed through liaison with CMS, DOJ and other governmental and private sector entities. It is responsible for developing, improving and maintaining a comprehensive OIG database on all OIG exclusion actions, and promptly and accurately reports all exclusion actions within its authority to the database. It informs appropriate regulatory agencies, health care providers and the general public of all OIG exclusion actions, and is responsible for improving public access to information on these exclusion actions to ensure that excluded individuals and entities are effectively barred from program participation.

C. Investigative Oversight and Support

This office is directed by the Assistant Inspector General for Investigative Oversight and Support who performs the general management functions of the office.

1. This office manages the human and financial resources of OI, including developing staffing allocation plans and issuing policy for coordination and monitoring all budget, staffing and recruiting.

2. This office plans, develops, implements and evaluates all levels of employee training for investigators, managers, support staff and other personnel. It oversees a law enforcement techniques and equipment program.

3. This office coordinates the general management processes, implements policies and procedures published in the OIG Administrative Manual and elsewhere. It also coordinates a national inspection program to ensure compliance with the Federal Managers Financial Integrity Act, the President's Council on Integrity and Efficiency, and Attorney General guidelines.

Dated: June 1, 2004.
Dara Corrigan,
Acting Principal Deputy Inspector General.

[FR Doc. 04-15058 Filed 7-1-04; 8:45 am]

BILLING CODE 4152-01-P